DEPARTMENT OF TRANSPORTATION

National Highway Traffic Safety Administration

[Docket No. DOT-NHTSA-2025-0018]

Agency Information Collection Activities; Notice and Request for Comment; 23 CFR Part 1327 Procedures for Participating in and Receiving Information From the National Driver Register

AGENCY: National Highway Traffic Safety Administration (NHTSA), Department of Transportation (DOT).

ACTION: Notice and request for comments on the extension of a previously approved collection of information.

SUMMARY: The Department of Transportation (DOT) invites public comments about our intention to request approval from the Office of Management and Budget (OMB) for an extension of a currently approved information collection. Before a federal agency can collect certain information from the public, it must receive approval from the Office of Management and Budget (OMB). Under procedures established by the Paperwork Reduction Act of 1995, before seeking OMB approval, Federal agencies must solicit public comment on proposed collections of information, including extension and reinstatement of previously approved collections. This document describes a collection of information for which NHTSA intends to seek OMB approval titled “National Driver Register (NDR).”

DATES: Comments must be received on or before May 27, 2025.

ADDRESSES: You may submit comments [identified by Docket No. DOT-NHTSA-2025-0018] through one of the following methods:

• Electronic submissions: Go to the Federal eRulemaking Portal: http://www.regulations.gov. Follow the online instructions for submitting comments.

• Fax: 1 (202) 493-2251.

• Mail or Hand Delivery: Docket Management Facility, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone can search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Miriam Chege, NHTSA, U.S. Department of Transportation, 1200 New Jersey Avenue SE, Room W55-210, NSA-200, Washington, DC 20590.

Mrs. Chege's telephone number is (202) 366-4800. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: National Driver Register (NDR).

OMB Control Number: 2127-0001.

Form Number(s): This collection of information is electronically submitted to NHTSA. There are no standard forms.

Type of Request: Extension of a currently approved information collection.

Type of Review Requested: Regular.

Requested Expiration Date of Approval: 3 years from date of approval.

Summary of the Collection of Information

The National Driver Register Act of 1982, Title 49 U.S.C., Subtitle VI, Part A, Chapter 303 (as amended) requires the Secretary of Transportation (NHTSA by delegation) to maintain a National Driver Register (NDR) to assist the State chief driver licensing officials in the exchange of information about the motor vehicle driving records of individuals. The chief driver licensing official of a participating State must report to the NDR identification information regarding any individual who is denied a motor vehicle operator's license for cause, whose motor vehicle operator's license is withdrawn for cause, or who is convicted of certain serious motor vehicle related offenses (specified in the Act at 49 U.S.C. 30304) or comparable offenses. (23 U.S.C. 30304(a); 23 CFR 1327, Appendix A). Participating States are required to submit an inquiry to the NDR on all applicants for driver's licenses before issuing a license to the applicant. In addition, when requested by other authorized users (e.g., the Federal Aviation Administration), participating States are required to submit inquires to the NDR and provide responses to the other authorized users of the NDR for transportation safety purposes. All 50 States and the District of Columbia participate in the NDR.

The NDR maintains the computerized database known as the Problem Driver Pointer System (PDPS) which contains information on individuals whose privilege to operate a motor vehicle has been revoked, suspended, canceled, or denied or who have been convicted of serious traffic-related offenses. The records maintained at the NDR consist of identification information including name, date of birth, sex, driver license number, and reporting State which is collected on a daily basis.

States use interactive communication for their routine transactions with the NDR which allows them to submit the required information automatically at the same time the individual's information is entered into the State's system. Specifically, when an individual applies for a driver's license, an inquiry is automatically transmitted to the NDR when the driver's application is entered into the State's system. Likewise, when a State records license actions that have been taken against an individual that require reporting to the NDR, a transaction submitting the individual's identification information is automatically generated and transmitted to the NDR.

Description of the Need for the Information and Proposed Use of the Information

The purpose of the information collection is to improve traffic and transportation safety by assisting States in keeping problem drivers off the nation's highways. The NDR was established to serve as the central repository of information on problem drivers to promote information sharing among States, eliminating the need for States to contact each of the other 50 jurisdictions, and the District of Columbia individually. The information collected is used by State driver licensing agencies to identify problem drivers prior to issuing a driver's license and to develop and implement driver improvement programs. The following groups are also authorized to receive information upon inquiry to a State driver licensing agency for transportation safety purposes:

a. Employers of motor vehicle operators,

b. Employers of locomotive operators,

c. Federal Aviation Administration regarding applications for or holders of airman's certificates,

d. U.S. Coast Guard regarding applicants for or holders of licenses, certificates of registry, or merchant mariner's documents, and for Coast Guard crew members,

e. National Transportation Safety Board and Federal Motor Carrier Safety Administration in connection with accident investigations,

f. Air carriers regarding individuals seeking employment as pilots, and

g. Individuals who have or are seeking access to national security information for purposes under E.O. 12968 or who are being investigated for Federal employment.

Affected Public: Participating States.

Estimated number of Respondents: The number of respondents is 51—all 50 States and the District of Columbia.

Frequency: On a daily basis.

Estimated Total Annual Burden Hours: 13,763 hours.

Estimated Total Annual Burden Cost: There are no annual costs.

States use routine electronic interactive communication for transactions with the NDR, which allows the States to submit the required information automatically at the same time the information is entered into the State's own system. Although States are required to report and check for a problem driver when issuing a driver's license, no burden hours are incurred for these queries for this information collection because the State's computer systems automatically transmit the information that is entered as a part of normal business practice. Therefore, the estimated hour burden is based on the States' PDPS IT infrastructure maintenance and States' participation in the optional Clean File process.

To estimate the annual maintenance and infrastructure burden to report and check for problem drivers, NDR asked a small sample of States for information about their annual burden. NDR received formatted estimates from two States which included the maintenance and infrastructure labor hours and cost used to send and maintain information to PDPS. Together, the burden from these two States was 530 hours and the associated labor cost was $17,400. Using these estimates, NHTSA calculates an average of 265 hours per State, with an annual labor cost of $8,700. There are 51 respondents per year (the 50 States and the District of Columbia). Therefore, total annual burden hours for maintenance and infrastructure is estimated to be 13,515 hours (51 respondents × 265 hours). The total annual maintenance and infrastructure labor cost per year is estimated to be $443,700 ($8,700 × 51).

To ensure that the information contained in the NDR is accurate, States sometimes submit a “clean file” which is a confirmation of all drivers of that State who should be listed in the NDR file. NHTSA estimates that an average of 31 clean files will be submitted annually by States. States use SFTP to submit this information, and NHTSA estimates it takes an IT specialist 8 hours to prepare and run the data. NHTSA estimates the cost for IT personnel burden hours using the Bureau of Labor Statistics' mean wage estimate for Software and Web Developers, Programmers, and Testers (Standard Occupational Classification #15-1250, May 2024) of $59.02.¹ The Bureau of Labor Statistics estimates that for State and local government workers, wages represent 61.9% of total compensation.² Therefore, the total hourly cost associated with the IT burden hours is estimated to be $95.35 ($59.02 ÷ 61.9%) per hour. The total annual burden hours to prepare and submit clean files is 248 hours (8 × 31). The total annual clean file labor cost per year is estimated to be $23,647 ($95.35 × 248).

¹ May 2020 National Occupational Employment and Wage Estimates United States, Occupational Employment Statistics, Bureau of Labor Statistics, U.S. Department of Labor, https://www.bls.gov/oes/current/oes_nat.htm#15-0000, last accessed July 23, 2021.

² Employer Costs for Employee Compensation by ownership (Dec. 2020), available at https://www.bls.gov/news.release/ecec.t01.htm (accessed July 23, 2021).

Submission type | Annual responses | Annual respondents | Estimated burden per respondent | Average hourly labor cost | Labor cost per respondent | Total burden hours | Total labor costs
Adding, Updating, or Deleting Records | 9,369,197 | 51 | 265 | N/A | $8,700 | 13,515 | $443,700
Clean Files | N/A | 31 | 248 | 95.35 | 762.80 | 248 | 23,647
Total |  | 51 | 513 |  |  | 13,763 | 467,347

Public Comments Invited: You are invited to comment on any aspect of this information collection, including whether (a) the proposed collection of information is necessary for the proper performance of the functions of the Department, including whether the information will have practical utility; (b) the accuracy of the Department's estimated burden of the proposed information collection; (c) ways to enhance the quality, utility and clarity of the information to be collected; and (d) ways to minimize the burden of the collection of information on respondents, including the use of automated collection techniques or other forms of information technology. The agency will summarize and/or include your comments in the request for OMB's clearance of this information collection.

Authority: The Paperwork Reduction Act of 1995; 44 U.S.C. Chapter 35, as amended; 49 CFR 1.49; and DOT Order 1351.29.

Chou-Lin Chen,
Associate Administrator for the National Center for Statistics and Analysis.

[FR Doc. 2025-05342 Filed 3-27-25; 8:45 am]

BILLING CODE 4910-59-P